DEPARTMENT OF TRANSPORTATION

Federal Railroad Administration

Notice of Informational Filing

For informational purposes only, the Federal Railroad Administration (FRA) is providing notice that it has received an informational filing from BNSF Railway Company (BNSF) and the National Railroad Passenger Corporation (Amtrak) to conduct joint testing of Version V of BNSF's Electronic Train Management System (ETMS) submitted pursuant to Title 49 Code of Federal Regulations 236.913. The informational filing is described below, including the submitting party and the requisite docket number where the informational filing and any related information may be found. The document is available for public inspection; however, FRA is not accepting public comment on the document.

BNSF Railway Company; National Railroad Passenger Corporation

[Docket Number FRA-2006-23687]

BNSF and Amtrak have submitted an informational filing to FRA to begin joint operational testing of ETMS Version V on BNSF's Fort Worth, Red Rock, and Stampede Subdivisions. This joint testing will allow BNSF to obtain the necessary assessments required to amend its currently approved Product Safety Plan for ETMS Version I for a future submittal to the FRA. In addition, this joint testing will allow BNSF and Amtrak to substantiate the ETMS system with mixed freight and passenger operations, and on mountain grade territories. The informational filing has been placed in Docket Number FRA-2006-23687 and is available for public inspection.

Interested parties are invited to review the informational filing and associated documents at the DOT Docket Management facility during regular business hours (9 a.m.-5 p.m.) at 1200 New Jersey Avenue, SE., Room W12-140, Washington, DC 20590. All documents in the public docket are also available for inspection and copying on the internet at http://www.regulations.gov.

Anyone is able to search the electronic form of any written communications received into any of our dockets by name of the individual submitting the document (or signing the document, if submitted on behalf of an association, business, labor union, etc.). You may review the DOT's complete Privacy Act Statement in the Federal Register published on April 11, 2000 (Volume 65, Number 70; Pages 19477-78) or at http://www.dot.gov/privacy.html.

Issued in Washington, DC, on October 26, 2009.
Grady C. Cothen, Jr.,
Deputy Associate Administrator for Safety Standards and Program Development.

[FR Doc. E9-26434 Filed 11-2-09; 8:45 am]

BILLING CODE 4910-06-P